INTERNATIONAL TRADE COMMISSION

[Inv. No. 337-TA-459]

In the Matter of Certain Garage Door Operators Including Components Thereof; Notice of Decision to Modify an Initial Determination Granting a Motion to Intervene

AGENCY: U.S. International Trade Commission.

ACTION: Notice.

SUMMARY: Notice is hereby given that the U.S. International Trade Commission has determined to modify an initial determination (ID) (Order No. 5), as supplemented by Order No. 7, issued by the presiding administrative law judge (ALJ) in the above-captioned investigation. The ID is modified to the extent that the restrictions placed an intervenor's participation in the investigation are lifted.

FOR FURTHER INFORMATION CONTACT: Jean Jackson, Esq., Office of the General Counsel, U.S. International Trade Commission, 500 E Street, SW., Washington, DC 20436, telephone 202-205-3104. Copies of all nonconfidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS-ON-LINE) at http://dockets.usitc.gov/eol.public. Hearing-impaired persons are advised that information on the matter can be obtained by contacting the Commission's TDD terminal on 202-205-1810.

SUPPLEMENTARY INFORMATION: The Commission instituted this investigation on July 16, 2001, based on a complaint filed by The Chamberlain Group, Inc. (“Chamberlain”) against six entities, not including Microchip Technology Inc. (Microchip). 66 FR 37704. Chamberlain's complaint alleges violations of section 337 in the importation into the United States, sale for importation, and/or sale within the United States after importation of certain garage door operators by reason of infringement of certain claims of Chamberlain's U.S. Letters Patents Nos. Re. 35,364 and Re. 36,703. On August 6, 2001, Microchip filed a motion to intervene in this investigation.

On October 1, 2001, the ALJ issued an ID (Order No. 5) granting Microchip's motion. The ID allowed Microchip to become an “intervenor” in the present investigation, but placed restrictions on Microchip's participation. Under the ID, Microchip was allowed to participate in the discovery phase of the investigation, but was not allowed to notice depositions during discovery or participate as a party at the hearing. On October 30, 2001, the Commission determined to review the ID and remanded the ID to the ALJ for either a modification of the ID or a statement of reasons supporting his decision to allow only limited intervention. Commission Order and Notice of Review, dated October 30, 2001.

On November 20, 2001, the ALJ issued Order No. 7, in which he supplied reasons for the restrictions that he placed on Microchip. Microchip filed a submission concerning Order No.7 on November 28, 2001. On December 5, 2001, complainant Chamberlain responded in opposition to the submission. On the same date, the Commission investigative attorney filed a response in support of Microchip.

This action is taken under the authority of section 337 of the Tariff Act of 1930, 19 U.S.C. 1337, and section 210.45 of the Commission's rules of practice and procedure, 19 CFR 210.45.

By order of the Commission.
Issued: December 18, 2001.
Donna R. Koehnke,
Secretary.

[FR Doc. 01-31600 Filed 12-21-01; 8:45 am]

BILLING CODE 7020-02-P